DEPARTMENT OF HOMELAND SECURITY

[Docket No. DHS-2008-0068]

Committee Name: Homeland Security Information Network Advisory Committee

AGENCY: Department of Homeland Security.

ACTION: Committee Management; Notice of Federal Advisory Committee Meeting.

SUMMARY: The Homeland Security Information Network Advisory Committee (HSINAC) will meet from July 31-August 1, 2008, in Potomac, MD. The meeting will be open to the public.

DATES: The HSINAC will meet Thursday, July 31, 2008, from 9 a.m. to 4:30 p.m. and on Friday, August 1, 2008, from 8:30 a.m. to 4:30 p.m. Please note that the meeting may close early if the committee has completed its business.

ADDRESSES: The meeting will be held at the Bolger Center, 9600 Newbridge Drive, Potomac, MD 20854-4436. Send written material, comments, and requests to make oral presentations to Elliott Langer, Department of Homeland Security, 245 Murray Lane, SW., Bldg. 410, Washington, DC 20528. Requests to make oral statements at the meeting should reach the contact person listed below by July 24, 2008. Requests to have a copy of your material distributed to each member of the committee prior to the meeting should reach the contact person at the address below by July 24, 2008. Comments must be identified by DHS-2008-0068 and may be submitted by one of the following methods:

• Federal eRulemaking Portal: http://www.regulations.gov. Follow the instructions for submitting comments.

• E-mail: Elliott.langer@dhs.gov. Include the docket number in the subject line of the message.

• Fax: 202-282-8191.

• Mail: Elliott Langer, Department of Homeland Security, 245 Murray Lane, SW., Building 410, Washington, DC 20528.

Instructions: All submissions received must include the words “Department of Homeland Security” and the docket number for this action. Comments received will be posted without alteration at http://www.regulations.gov, including any personal information provided.

Docket: For access to the docket to read background documents or comments received by the Homeland Security Information Network Advisory Committee, go to http://www.regulations.gov.

FOR FURTHER INFORMATION CONTACT: Elliott Langer, 245 Murray Lane, SW., Bldg. 410, Washington, DC 20528, Elliott.langer@dhs.gov, 202-282-8978, fax 202-282-8191.

SUPPLEMENTARY INFORMATION: Notice of this meeting is given under the Federal Advisory Committee Act, 5 U.S.C. App. (Pub. L. 92-463). The mission of the HSINAC is to identify issues and provide independent advice and recommendations for the improvement of HSIN to senior leadership of the Department, in particular the Director of Operations Coordination and Planning. The agenda for this meeting will include an update on efforts concerning the improvement of HSIN, the development of the Next Generation of HSIN and discussions to develop a methodology of collecting and validating HSIN community User input and User based requirements.

Procedural

This meeting is open to the public. Please note that the meeting may close early if all business is finished.

Participation in HSINAC deliberations is limited to committee members, Department of Homeland Security officials, and persons invited to attend the meeting for special presentations.

All visitors to Bolger Center will have to pre-register to be admitted to the building. Please provide your name and telephone number by close of business on July 24, 2008, to Elliott Langer (202-282-8978) (Elliott.langer@dhs.gov).

Information on Services for Individuals With Disabilities

For information on facilities or services for individuals with disabilities or to request special assistance at the meeting, contact Elliott Langer as soon as possible.

Roger T Rufe, Jr.,
Director of Operations Coordination and Planning.

[FR Doc. E8-14941 Filed 7-1-08; 8:45 am]

BILLING CODE 4410-10-P